DEPARTMENT OF TRANSPORTATION

Federal Aviation Administration

14 CFR Part 61

[Docket No. FAA-2007-27043; Amdt. No. 61-132]

RIN 2120-AI77

Fees for Certification Services and Approvals Performed Outside the United States; Technical Amendment

AGENCY: Federal Aviation Administration, DOT.

ACTION: Final rule; technical amendment.

SUMMARY: The FAA is correcting a direct final rule published on April 12, 2007 (72 FR 18556). In that rule, the FAA amended its regulations to revise the fee requirement for issuance of airman certificates. This document amends one paragraph that unintentionally expanded the FAA's ability to refuse issuance of airman certificates to U.S. citizens and resident aliens, removes two paragraphs that were inadvertently left in one subsection, and renumbers the paragraphs and revises cross-references accordingly.

DATES: Effective December 24, 2013.

FOR FURTHER INFORMATION CONTACT: For technical questions concerning this action, contact the General Aviation and Commercial Division, AFS-800, Flight Standards Service, Federal Aviation Administration, 800 Independence Avenue SW., Washington, DC 20591; telephone (202) 385-9600. For legal questions concerning this final rule contact Anne Moore, Office of the Chief Counsel—International Law, Legislation, and Regulations Division, AGC-240, Federal Aviation Administration, 800 Independence Avenue SW., Washington, DC 20591; telephone (202) 267-3123; facsimile (202) 267-7971, email anne.moore@faa.gov.

SUPPLEMENTARY INFORMATION:

Background

In 2007, the FAA published a direct final rule revising the fee requirement of 14 CFR 61.13 for the issuance of an airman certificate by extending the fee requirement to all applicants outside the United States regardless of citizenship. 72 FR 18556, 18558 (Apr. 12, 2007). The FAA is now issuing a technical amendment to § 61.13 because the revision to the fee requirement inadvertently expanded the Administrator's authority to refuse to issue a U.S. airman certificate, rating, or authorization to U.S. citizens and resident aliens. Formerly, that provision had been limited to applicants who were non-resident aliens.

The FAA is also removing paragraphs (A) and (B) from paragraph (a)(2)(i) because those paragraphs were inadvertently left in § 61.13 due to erroneous amendatory instructions in the April 12, 2007 direct final rule. 72 FR 18558. Finally, the FAA is renumbering the paragraphs of § 61.13 and updating cross-references to reflect these revisions.

Technical Amendment

Section 61.13 establishes the requirements for the issuance of airman certificates, ratings, and authorizations. Prior to issuance of the 2007 direct final rule, § 61.13(a)(2) stated that an applicant for a certificate, rating, or authorization “who is neither a citizen of the United States nor a resident alien of the United States” must (i) show evidence of fees paid for airman certification services outside the United States, and (ii) may be refused issuance of any U.S. airman certificate, rating or authorization by the Administrator.¹ In the 2007 direct final rule, the FAA amended the § 61.13(a)(2) introductory text by removing the language which specifically applied the section to non-U.S. citizens and non-resident aliens. The FAA explained in the preamble that the intention of the rule change was to ensure that fees for airman certification services outside the United States were paid even by U.S. citizens. In changing the introductory text to § 61.13(a)(2), however, the FAA inadvertently extended the Administrator's authority to refuse an airman certificate to all applicants regardless of citizenship. The FAA is issuing this technical amendment to correct this error. As amended, the Administrator's ability to refuse an airman certificate will apply only to non-U.S. citizens and non-resident aliens while retaining application of the fee requirement in § 61.13(a)(2) to all applicants applying outside the United States regardless of citizenship.

¹ Under 49 U.S.C. 44703(e)(1), the Administrator may “restrict or prohibit issuing an airman certificate to an alien[.]”

The FAA is also correcting a minor error to paragraphs (A) and (B) of § 61.13(a)(2)(i). In the 2007 direct final rule, the FAA stated in the amendatory instructions to § 61.13 that it was revising the introductory text of paragraph (a)(2) and (a)(2)(i), but did not explicitly state it was removing paragraphs (A) and (B) of that paragraph. As a result, paragraphs (A) and (B) of (a)(2)(i) were inadvertently retained. This technical edit will correct that error. In addition, the FAA is renumbering § 61.13(a)(2)(ii) as § 61.13(a)(3), and § 61.13(a)(3) as § 61.13(a)(4), and revising a cross-reference in the newly created § 61.13(a)(4) to reflect these changes in numbering.

Because the amendment corrects an error and imposes no new burden, the FAA finds that the notice and public procedures under 5 U.S.C. 553(b) are unnecessary. Because the changes in this technical amendment result in no substantive change, the FAA finds good cause exists under 5 U.S.C. 553(d)(3) to make the amendment effective in less than 30 days.

List of Subjects in 14 CFR Part 61

Aircraft, Airmen, Aviation safety.

The Amendment

In consideration of the foregoing, the Federal Aviation Administration amends chapter I of title 14, Code of Federal Regulations as follows:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 45102-45103, 45301-45302.

2. Amend § 61.13 by revising paragraph (a) to read as follows:

§ 61.13 Issuance of airman certificates, ratings, and authorizations.

(a) Application. (1) An applicant for an airman certificate, rating, or authorization under this part must make that application on a form and in a manner acceptable to the Administrator.

(2) An applicant must show evidence that the appropriate fee prescribed in appendix A to part 187 of this chapter has been paid when that person applies for airmen certification services administered outside the United States.

(3) An applicant who is neither a citizen of the United States nor a resident alien of the United States may be refused issuance of any U.S. airman certificate, rating or authorization by the Administrator.

(4) Except as provided in paragraph (a)(3) of this section, an applicant who satisfactorily accomplishes the training and certification requirements for the certificate, rating, or authorization sought is entitled to receive that airman certificate, rating, or authorization.

* * * * *

Issued in Washington, DC, under the authority provided by 49 U.S.C. 106(f), 44701(a), 44703(e) on December 18, 2013.
Lirio Liu,
Director, Office of Rulemaking.

[FR Doc. 2013-30604 Filed 12-23-13; 8:45 am]

BILLING CODE 4910-13-P